DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, bridge replacement on US Route 101 in Del Norte County, State of California. Those actions grant licenses, permits, and approvals for the project.

DATES: By this notice, FHWA, on behalf of Caltrans, is advising the public of final agency actions subject to 23 U.S.C. 139(l)(1). A claim seeking judicial review of the Federal agency actions on the highway project will be barred unless the claim is filed on or before May 10, 2021. If the Federal law that authorizes judicial review of a claim provides a time period of less than 150 days for filing such claim, then that shorter time period still applies.

FOR FURTHER INFORMATION CONTACT: For Caltrans: Brandon Larsen, Environmental Branch Chief, 1656 Union Street, Eureka, CA, 8 a.m. to 4 p.m., (707) 441-5730, brandon.larsen@dot.ca.gov. For FHWA, contact David Tedrick at (916) 498-5024 or email david.tedrick@dot.gov.

SUPPLEMENTARY INFORMATION: Effective July 1, 2007, FHWA assigned, and the Caltrans assumed, environmental responsibilities for this project pursuant to 23 U.S.C. 327. Notice is hereby given that the Caltrans has taken final agency actions subject to 23 U.S.C. 139(l)(1) by issuing licenses, permits, and approvals for the following highway project in the State of California: Replace the Dr. Fine Bridge over the Smith River on Route 101 north of Crescent City. Built in 1940, the existing bridge is near the end of its useful life. A new bridge will better accommodate vehicles, pedestrians, and bicyclists. The actions by the Federal agencies, and the laws under which such actions were taken, are described in the Final Environmental Assessment (FEA) for the project, approved on March 19, 2020, in the FHWA Finding of No Significant Impact (FONSI) issued on March 19, 2020, and in other documents in the FHWA project records. The FEA, NOD, and other project records are available by contacting Caltrans at the addresses provided above. The Caltrans FEA and FONSI can be viewed at public libraries in the project area or an electronic document can be requested. Contact information for requesting digital copies can be found at https://dot.ca.gov/caltrans-near-me/district-1/d1-projects/d1-dr-fine-bridge-replacement.

This notice applies to all Federal agency decisions as of the issuance date of this notice and all laws under which such actions were taken, including but not limited to:

1. Council on Environmental Quality Regulations

2. National Environmental Policy Act of 1969, as amended, 42 U.S.C. 4332(2)(c)

3. 49 U.S.C. 303 for Section 4(f)

4. Federal-Aid Highway Act of 1970, 23 U.S.C 109

5. MAP-21, the Moving Ahead for Progress in the 21st Century Act (Pub. L. 112-141)

6. Clean Air Act Amendments of 1990 (CAAA)

7. Clean Water Act of 1977 and 1987

8. Federal Water Pollution Control Act of 1972 (see Clean Water Act of 1977 & 1987)

9. Federal Land Policy and Management Act of 1976 (Paleontological Resources)

10. The National Historic Preservation Act of 1966 (NHPA)

11. Noise Control Act of 1972

12. Safe Drinking Water Act of 1944, as amended

13. Endangered Species Act of 1973

14. Executive Order 11990, Protection of Wetlands

15. Executive Order 13112, Invasive Species

16. Executive Order 13186, Migratory Birds

17. Fish and Wildlife Coordination Act of 1934, as amended

18. Migratory Bird Treaty Act

19. Wildflowers, Surface Transportation and Uniform Relocation Act of 1987 Section 130

20. Executive Order 11988, Floodplain Management

21. Department of Transportation (DOT) Executive Order 5650.2—Floodplain Management and Protection (April 23, 1979)

22. Title VI of the Civil Rights Act of 1964, as amended

23. Executive Order 12898, Federal Actions to Address Environmental Justice and Low-Income Populations

(Authority: 23 U.S.C. 139(l)(1))

Issued on: November 19, 2020.
Rodney Whitfield,
Director, Financial Services, Federal Highway Administration, California Division.

[FR Doc. 2020-27038 Filed 12-8-20; 8:45 am]

BILLING CODE 4910-RY-P